DEPARTMENT OF LABOR

Employment and Training Administration

[TA-W-56,628]

Vishay Intertechnology, Dale Electronics Division, Norfolk, NE; Notice of Termination of Investigation

Pursuant to Section 221 of the Trade Act of 1974, as amended, an investigation was initiated on February 24, 2005, in response to a petition filed by a State agency representative on behalf of workers of Vishay Dale Electronics Inc., Norfolk, Nebraska. The official company name is Vishay Intertechnology, Dale Electronics Division, Norfolk, Nebraska.

The worker group is covered by an active certification of eligibility to apply for worker adjustment assistance and alternative trade adjustment assistance under petition number TA-W-55,818, which remains in effect through November 18, 2006. Consequently, further investigation in this case would serve no purpose, and the investigation has been terminated.

Signed at Washington, DC, this 4th day of April, 2005.
Linda G. Poole,
Certifying Officer, Division of Trade Adjustment Assistance.

[FR Doc. E5-2088 Filed 4-29-05; 8:45 am]

BILLING CODE 4510-30-P